DEPARTMENT OF DEFENSE

Department of the Air Force

[Docket ID: USAF-2011-0002]

Privacy Act of 1974; System of Records

AGENCY: Department of the Air Force, DoD.

ACTION: Notice To Alter a System of Records.

SUMMARY: The Department of the Air Force proposing to alter a system of records notice in its existing inventory of records systems subject to the Privacy Act of 1974 (5 U.S.C. 552a), as amended.

DATES: The proposed action will be effective on February 18, 2011 unless comments are received that would result in a contrary determination.

ADDRESSES: You may submit comments, identified by dock number and/RIN number and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or Department of the Air Force Privacy Office, Air Force Privacy Act Office, Office of Warfighting Integration and Chief Information officer, ATTN: SAF/XCPPI, 1800 Air Force Pentagon, Washington, DC 20330-1800.

SUPPLEMENTARY INFORMATION: The Department of the Air Force's notices for systems of records subject to the Privacy Act of 1974 (5 U.S.C. 552a), as amended, have been published in the Federal Register and are available from the FOR FURTHER INFORMATION CONTACT address above. The proposed systems reports, as required by 5 U.S.C. 552a(r) of the Privacy Act, were submitted on January 6, 2011 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: January 11, 2011.
Morgan F. Park,
Alternate OSD Federal Register Liaison Officer, Department of Defense.

F033 AF PC A

System Name:

Congressional and Other High Level Inquiries (June 11, 1997, 62 FR 31793).

Changes:

* * * * *

System Location:

Delete entry and replace with “Headquarters Air Force Personnel Center; major commands; field operating agencies; Military Personnel Sections at Air Force installations, and headquarters of unified and specified commands for which Air Force is Executive Agent. Official mailing addresses are published as an appendix to the Air Force's compilation of systems of records notices.”

Categories of individuals covered by the system:

Delete entry and replace with “Air Force active duty, Reserve, Air National Guard and personnel retired or discharged from the Air Force, current or former Air Force DoD civilian personnel; personnel attending Air Force training institutions or courses; other component personnel assigned to an Air Force installation where Air Force is the Executive Agent.”

Categories of records in the system:

Delete entry and replace with “Individuals name, background information and information reflecting Air Force personnel policies and procedures; Members of Congress requesting information on behalf of a constituent; copies of replies to such inquiries including transmittal media used en route from and to the Secretary of the Air Force, Office of Legislative Liaison (SAF/LL).”

Authority for maintenance of the system:

Delete entry and replace with “10 U.S.C. 8013, Secretary of the Air Force; 10 U.S.C. 8032, The Air Staff, general duties; implemented by Air Force Instruction 90-401, Air Force Relations with Congress.”

* * * * *

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The DoD `Blanket Routine Uses' published at the beginning of the Air Force's compilation of record system notices apply to this system.”

Policies and practices for storing, retrieving, accessing, retaining, and disposing of records in the system:

Storage:

Delete entry and replace with “Electronic storage media.”

* * * * *

Safeguards:

Delete entry and replace with “Records are accessed by the custodian of the record system and by persons responsible for servicing the records in performance of their official duties who are properly cleared for need-to-know. Records are stored on electronic media and accessed by use of the Common Access Card (CAC).”

Retention and disposal:

Delete entry and replace with “Destroyed after one year for Congressional communication at Office of the Secretary of the Air Force and all activities below and destroyed two years after calendar year case is closed for administrative reviews, inquiries and investigations. Records are deleted from electronic media.”

System manager(s) and address:

Delete entry and replace with “Headquarters Air Force Personnel Center; major commands; field operating agencies; Military Personnel Sections at Air Force installations, and headquarters of unified and specified commands. Official mailing addresses are published as an appendix to the Air Force's compilation of record systems notices.”

Notification procedures:

Delete entry and replace with “Individuals seeking to determine whether information about themselves is contained in this system of records should address written inquiries to Headquarters Air Force Personnel Center, Inspector General (HQ AFPC/IG) or visit the system manager or respective local system manager. Official mailing addresses are published as an appendix to the Air Force's compilation of systems of records notices. Official mailing address for the Air Force Personnel Center Inspector General's office is Headquarters Air Force Personnel Center, Inspector General Office (HQ AFPC/IG), 550 C Street West, Suite 37, Randolph Air Force Base, TX 78150-4703.

For verification purposes, individual should provide their full name, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking to access records about themselves contained in this system of records should address written inquiries to the system manger or respective local system manger. Official mailing addresses are published as an appendix to the Air Force's compilation of systems of records notices.

For verification purposes, individual should provide their full name, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Contesting record procedures:

Delete entry and replace with “The Air Force rules for accessing records, and for contesting contents and appealing initial agency determinations are published in Air Force Instruction 33-332; 32 CFR part 806b; or may be obtained from the system manager.”

Record source categories:

Delete entry and replace with “Information provided by major command or Military Personnel Section personnel, Air Force policies and procedures, copies of inquiries, congressional/high level officials'/constituents' comments or requests and Air Force replies thereto.”

* * * * *

F036 AF PC A

System name:

Congressional and Other High Level Inquiries.

System location:

Headquarters Air Force Personnel Center; major commands; field operating agencies; Military Personnel Sections at Air Force installations, and headquarters of unified and specified commands for which Air Force is Executive Agent. Official mailing addresses are published as an appendix to the Air Force's compilation of systems of records notices.

Categories of individuals covered by the system:

Air Force active duty, Reserve, Air National Guard and personnel retired or discharged from the Air Force, current or former Air Force DoD civilian personnel; personnel attending Air Force training institutions or courses; other component personnel assigned to an Air Force installation where Air Force is the Executive Agent.

Categories of records in the system:

Individuals name, background information and information reflecting Air Force personnel policies and procedures; Members of Congress requesting information on behalf of a constituent; copies of replies to such inquiries including transmittal media used en route from and to the Secretary of the Air Force, Office of Legislative Liaison (SAF/LL).

Authority for maintenance of the system:

10 U.S.C. 8013, Secretary of the Air Force; 10 U.S.C. 8032, The Air Staff, general duties; implemented by Air Force Instruction 90-401, Air Force Relations with Congress.

Purpose(s):

Information pertinent to an inquiry forwarded to SAF/LL for preparation of the reply to the high level requester. In some instances response may be direct to the requester without referral through SAF/LL. However, when required by directives, copies of such responses are furnished SAF/LL. The records may be used in responding to subsequent inquiries concerning the same individual. The record system is audited periodically to determine trends on the nature of complaints and questions and for statistical purposes.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ published at the beginning of the Air Force's compilation of record system notices apply to this system.

Policies and practices for storing, retrieving, accessing, retaining, and disposing of records in the system:

Storage:

Electronic storage media.

Retrievability:

Retrieved by name.

Safeguards:

Records are accessed by the custodian of the record system and by persons responsible for servicing the records in performance of their official duties who are properly cleared for need-to-know. Records are stored on electronic media and accessed by use of the Common Access Card (CAC).

Retention and disposal:

Destroyed after one year for Congressional communication at Office of the Secretary of the Air Force and all activities below and destroyed two years after calendar year case is closed for administrative reviews, inquiries and investigations. Records are deleted from electronic media.

System managers(s) and address:

Headquarters Air Force Personnel Center; major commands; field operating agencies; Military Personnel Sections at Air Force installations, and headquarters of unified and specified commands. Official mailing addresses are published as an appendix to the Air Force's compilation of record systems notices.

Notification procedure:

Individuals seeking to determine whether information about themselves is contained in this system of records should address written inquiries to Headquarters Air Force Personnel Center, Inspector General (HQ AFPC/IG) or visit the system manager or respective local system manager. Official mailing addresses are published as an appendix to the Air Force's compilation of systems of records notices. Official mailing address for the Air Force Personnel Center Inspector General's office is Headquarters Air Force Personnel Center, Inspector General Office (HQ AFPC/IG), 550 C Street West, Suite 37, Randolph Air Force Base, TX 78150-4703.

For verification purposes, individual should provide their full name, any details, which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access records about themselves contained in this system of records should address written inquiries to the system manager or respective local system manager. Official mailing addresses are published as an appendix to the Air Force's compilation of systems of records notices.

For verification purposes, individual should provide their full name, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths:

‘I declare (or certify, verify, or state) under penalty of perjury that the foregoing is true and correct. Executed on (date). (Signature)’.

Contesting record procedures:

The Air Force rules for accessing records, and for contesting contents and appealing initial agency determinations are published in Air Force Instruction 33-332; 32 CFR part 806b; or may be obtained from the system manager.

Record source categories:

Information provided by major command or Military Personnel Section personnel, Air Force policies and procedures, copies of inquiries, congressional/high level officials'/constituents' comments or requests and Air Force replies thereto.

Exemptions claimed for the system:

None.

[FR Doc. 2011-966 Filed 1-18-11; 8:45 am]

BILLING CODE 5001-06-P